DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: September 15, 2011, 10 a.m.

PLACE: Room 2C, 888 First Street, NE., Washington, DC 20426.

STATUS: Open.

MATTERS TO BE CONSIDERED: Agenda.

* Note —Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

973rd—Meeting; Regular Meeting
[September 15, 2011, 10 a.m.]
Item No. | Docket No. | Company
Administrative
A-1 | AD02-1-000 | Agency Business Matters.
A-2 | AD02-7-000 | Customer Matters, Reliability, Security and Market Operations.
A-3 | OMITTED |
A-4 | AD11-9-000 | Report on Outages and Curtailments During the Southwest Cold Weather Event of February 1-5, 2011.
Electric
E-1 | RM11-11-000 | Version 4 Critical Infrastructure Protection Reliability Standards.
E-2 | OMITTED |
E-3 | RM08-13-004 | Transmission Relay Loadability Reliability Standard.
E-4 | RM10-6-000 | Interpretation of Transmission Planning Reliability Standard.
E-5 | RM10-29-000 | Electric Reliability Organization Interpretation of Transmission Operations Reliability Standard.
E-6 | RM11-16-000 | Transmission Relay Loadability Reliability Standard.
E-7 | RD11-7-000 | North American Electric Reliability Corporation.
E-8 | ER11-3970-000 | Midwest Independent Transmission System Operator, Inc.
E-9 | TS11-5-000 | Bangor Hydro Electric Company.
E-10 | ER11-3967-000 | Southwest Power Pool, Inc.
E-11 | ER11-3064-001 | PJM Interconnection, L.L.C. and Trans-Allegheny Interstate Line Company.
E-12 | ER11-3972-000 | PJM Interconnection, L.L.C.
E-13 | ER11-3953-000 | ISO New England Inc. and New England Power Pool.
E-14 | ER11-2224-004, ER11-2224-005, ER11-2224-009 | New York Independent System Operator, Inc.
E-15 | ER11-3949-000, ER11-3949-001, ER11-3951-000 | New York Independent System Operator, Inc.
E-16 | ER11-3973-000 | California Independent System Operator Corporation.
E-17 | EL11-12-002 | Idaho Wind Partners 1, LLC.
Gas
G-1 | RM11-4-000 | Storage Reporting Requirements of Interstate and Intrastate Natural Gas Companies.
Hydro
H-1 | P-2698-050, P-2686-062 | Duke Energy Carolinas, LLC.
H-2 | P-13681-002 | Grand Coulee Project Hydroelectric Authority.
H-3 | DI10-9-001 | Woodland Pulp LLC.
Certificates
C-1 | CP11-30-000 | Tennessee Gas Pipeline Company.
| CP11-41-000 | Dominion Transmission, Inc.
C-2 | CP10-510-000 | El Paso Natural Gas Company.

September 8, 2011.
Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-23442 Filed 9-9-11; 11:15 am]

BILLING CODE 6717-01-P